DEPARTMENT OF AGRICULTURE

Natural Resources Conservation Service

Lahaina Watershed Flood Control Project, County of Maui, Hawaii

AGENCY: Natural Resources Conservation Service, USDA.

ACTION: Notice of availability of record of decision.

SUMMARY: Lawrence T. Yamamoto, Responsible Federal Official for projects administered under the provisions of Public Law 83-566 in the State of Hawaii, is hereby providing notification that a record of decision to proceed with the installation of the Lahaina Watershed Flood Control project, signed April 20, 2004, is available.

The record of decision documents that the Lahaina Watershed Flood Control project used all practicable means, consistent with other essential considerations of national policy, to meet the goals established in the National Environmental Policy Act. The FEIS has been prepared, reviewed, and accepted in accordance with the National Environmental Policy Act.

For further information or single copies of this record of decision contact: Lawrence T. Yamamoto, State Conservationist, Natural Resources Conservation Service, 300 Ala Moana Blvd., Room 4-118, P.O. Box 50004, Honolulu, Hawaii, 96850, telephone: (808) 541-2600 ext. 100.

(This activity is listed in the Catalog of Federal Domestic Assistance under No. 10.904, Watershed Protection and Flood Prevention, and is subject to the provisions of Executive Order 12372, which requires intergovernmental consultation with State and local officials.)

Dated: April 20, 2004.
Lawrence T. Yamamoto,
State Conservationist.

[FR Doc. 04-10032 Filed 5-3-04; 8:45 am]

BILLING CODE 3410-16-P